GENERAL SERVICES ADMINISTRATION

[FMR Bulletin-PBS-2013-01; Docket 2013-0002; Sequence 5]

Federal Management Regulation; Redesignations of Federal Buildings

AGENCY: Public Buildings Service (PBS), General Services Administration (GSA).

ACTION: Notice of a bulletin.

SUMMARY: The attached bulletin announces the designation and redesignation of six Federal buildings.

DATES: Expiration Date: This bulletin announcement expires July 30, 2013. The building designations and redesignations remains in effect until canceled or superseded by another bulletin.

FOR FURTHER INFORMATION CONTACT: U.S. General Services Administration, Public Buildings Service (PBS), 1800 F Street NW., Washington, DC 20405, telephone number: 202-501-1100.

Dan Tangherlini,
Acting Administrator of General Services.

U.S. GENERAL SERVICES ADMINISTRATION

DESIGNATIONS AND REDESIGNATION OF FEDERAL BUILDINGS

TO: Heads of Federal Agencies

SUBJECT: Redesignations of Federal Buildings

1. What is the purpose of this bulletin? This bulletin announces the designation and redesignation of six Federal buildings.

2. When does this bulletin expire? This bulletin announcement expires July 30, 2013. The building designations and redesignations remain in effect until canceled or superseded by another bulletin.

3. Designation. The names of the designated buildings are as follows:

Robert H. Jackson United States Courthouse

2 Niagara Square

Buffalo, NY 14202

Alto Lee Adams, Sr., United States Courthouse

United States Route 1

Fort Pierce, FL 34950

James F. Battin United States Courthouse

2601 2nd Avenue North

Billings, MT 59101

(Location at 315 North 26th Street shall no longer be designated as the James F. Battin U.S. Courthouse)

4. Redesignation. The former and new names of the redesignated buildings are as follows:

Former Name | New Name
Ariel Rios Federal Building | William Jefferson Clinton Federal Building
1200 Pennsylvania Avenue NW. | 1200 Pennsylvania Avenue NW.
Washington, DC 20004 | Washington, DC 20004
George Mahon Federal Building | George H.W. Bush and George W. Bush
| United States Courthouse and George Mahon
| Federal Building
200 East Wall Street | 200 East Wall Street
Midland, TX 79701 | Midland, TX 79701
Federal Office Building 8 | Thomas P. O'Neill, Jr., Federal Building
200 C Street, SW. | 200 C Street, SW.
Washington, DC 20204 | Washington, DC 20204

5. Who should we contact for further information regarding designation and redesignation of these Federal buildings? U.S. General Services Administration, Public Buildings Service (PBS), 1800 F Street NW., Washington, DC 20405, telephone number: 202-501-1100.

Dan Tangherlini,

Acting Administrator of General Services.

[FR Doc. 2013-11247 Filed 5-10-13; 8:45 am]

BILLING CODE 6820-23-P